DEPARTMENT OF TRANSPORTATION

National Highway Traffic Safety Administration

49 CFR Part 571

[Docket No. NHTSA-7938]

Child Restraint Systems Safety Plan

AGENCY: National Highway Traffic Safety Administration (NHTSA), DOT.

ACTION: Request for comments.

SUMMARY: This document announces the availability of a planning document that describes the agency's ongoing and planned initiatives to improve the safety of motor vehicle occupants from birth through age 10. To realize our goal to have every child be protected by an appropriate, and properly used child restraint system on every trip, NHTSA has developed a child restraint system plan that employs three key strategies: Encourage correct use of child restraints for all children; ensure that child restraint systems provide optimal protection; and provide consumers with useful information on restraining their children. For each of the defined strategies, the plan provides background information, describes recent agency actions, and presents ongoing and planned programs to achieve our goals. NHTSA seeks public review and comment on the planning document. Comments received will be evaluated and incorporated, as appropriate, into the planned agency activities.

DATES: Comments must be received no later than December 22, 2000.

ADDRESSES: Interested persons may obtain a copy of the planning document by downloading a copy of the document from the Docket Management System, U.S. Department of Transportation, at the address provided below, or from NHTSA's website at http://www.nhtsa.dot.gov/people/injury/childps. Alternatively, interested persons may obtain a copy of the document by contacting the agency officials listed in the section titled, For Further Information Contact, immediately below.

Submit written comments to the Docket Management System, U.S. Department of Transportation, PL 401, 400 Seventh Street, SW, Washington, D.C. 20590-0001. Comments should refer to the Docket Number (NHTSA-7938) and be submitted in two copies. If you wish to receive confirmation of receipt of your written comments, include a self-addressed, stamped postcard.

Comments may also be submitted to the docket electronically by logging onto the Docket Management System website at http://dms.dot.gov. Click on “Help & Information” to obtain instructions for filing the comment electronically. In every case, the comment should refer to the docket number.

The Docket Management System is located on the Plaza level of the Nassif Building at the Department of Transportation at the above address. You can review public dockets there between the hours of 9 a.m. and 5 p.m., Monday through Friday, except Federal holidays. You can also review comments on-line at the DOT Docket Management System web site at “http://dms.dot.gov/.”

FOR FURTHER INFORMATION CONTACT: Dr. Cathy Gotschall, Office of Plans and Policy, NPP-12, National Highway Traffic Safety Administration, Room 5208, 400 Seventh Street, SW, Washington, DC 20590. Telephone: 202-366-1653. Email: cgotschall@nhtsa.dot.gov.

SUPPLEMENTARY INFORMATION: In February 2000, NHTSA held a public meeting to discuss child restraint system issues. Soon after that meeting, Senator Fitzgerald (R-Illinois) introduced “The Child Passenger Safety Act of 2000” (S. 2070). A similar bill (H.R. 4145) was introduced in the House by Congressman Shimkus (R-Illinois) . On May 16, 2000, Deputy Administrator Millman testified before the House Commerce Committee Subcommittee on Telecommunications, Trade and Consumer Protection. At that hearing, she discussed the agency's child passenger safety programs and stated that the agency would release a child restraint system plan for public comment.

NHTSA put together nine teams of agency experts to review all of the recommendations from the public meeting and from the House and Senate Bills and other sources. On November 1, 2000, the Transportation Recall Enhancement, Accountability and Documentation (TREAD) Act was enacted. Section 14 of the TREAD Act requires NHTSA to conduct rulemaking on side impact testing for child restraints and to consider several other related rulemaking actions. This draft plan includes the requirements of the TREAD Act, as well as those recommendations from the public that were considered to yield the biggest safety gains for child motor vehicle occupants.

The draft plan focuses on three strategies. The first strategy in the plan examines ways to increase restraint use among all children and to ensure that the appropriate restraint systems are used correctly. NHTSA estimates that if all children aged 0-4 years old were restrained in safety seats, 173 lives could have been saved in 1998. Additional studies have shown that as many as 68 additional deaths to children aged 0-6 years old could be prevented each year by eliminating misuse of safety seats. The agency conducts national campaigns to educate the public about the importance of buckling children into child restraint systems.

The second strategy is to improve existing standards for the performance and testing of child restraint systems. Since NHTSA first began regulating child safety seats in 1971, the agency has instituted numerous improvements to the original Federal safety standard, including the incorporation of dynamic performance testing, labeling improvements, and the recent introduction of a simplified, standardized system for anchoring safety seats in cars. This system, called the Lower Anchors and Tethers for Children (LATCH) system, may save as many as 50 lives and avert up to 3,000 serious injuries annually. In addition to research and the rulemaking initiatives described in this plan, NHTSA has urged child seat manufacturers to increase the margin by which they comply with the existing standards.

The safest child restraint systems available can prevent death and injury only if they are purchased and used correctly. The final strategy calls for improved mechanisms for getting safety information to consumers. The agency works closely with states, health communities, law enforcement agencies, and safety advocates to disseminate information to parents and caregivers on the correct installation and proper use of child restraint systems. NHTSA is committed to improving the information it provides to consumers both on the performance and proper use of child restraint systems as well as on defect investigations and safety recalls.

This document announces the availability of the document for public review and comment. The plan will be posted on NHTSA's website on November 20, 2000. Received comments will be evaluated and incorporated, as appropriate, into the planned agency activities.

How Do I Prepare and Submit Comments?

Your comments must be written and in English. To ensure that your comments are correctly filed in the Docket, please include the Docket number of this document (NHTSA-7938) in your comments.

Please send two paper copies of your comments to Docket Management or submit them electronically. The mailing address is U. S. Department of Transportation Docket Management, Room PL-401, 400 Seventh Street, SW, Washington, DC 20590. If you submit your comments electronically, log onto the Docket Management System website at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW, Washington, DC 20590. Include a cover letter supplying the information specified in our confidential business information regulation (49 CFR part 512).

In addition, send two copies from which you have deleted the claimed confidential business information to Docket Management, Room PL-401, 400 Seventh Street, SW, Washington, DC 20590.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW, Washington, DC from 10 a.m. to 5 p.m., Monday through Friday.

You may also see the comments on the Internet by taking the following steps:

a. Go to the Docket Management System (DMS) Web page of the Department of Transportation (http://dms.dot.gov).

b. On that page, click on “search.”

c. On the next page (http://dms.dot.gov/search/) type in the four-digit Docket number shown at the beginning of this document (7938). Click on “search.”

d. On the next page, which contains Docket summary information for the Docket you selected, click on the desired comments. You may also download the comments.

Authority: 49 U.S.C. 30111, 30117, 30168; delegation of authority at 49 CFR 1.50 and 501.8.

Sue Bailey,
Administrator.

[FR Doc. 00-30095 Filed 11-24-00; 8:45 am]

BILLING CODE 4910-59-P